DEPARTMENT OF ENERGY

Federal Energy Regulatory Commission

[Docket No. EG03-37-000, et al.]

FPL Energy North Dakota Wind, LLC, et al.; Electric Rate and Corporate Filings

January 22, 2003.

The following filings have been made with the Commission. The filings are listed in ascending order within each docket classification.

1. FPL Energy North Dakota Wind, LLC

[Docket No. EG03-37-000]

Take notice that on January 17, 2003, FPL Energy North Dakota Wind, LLC (the Applicant), with its principal office at 700 Universe Blvd., Juno Beach, Florida 33408, filed with the Federal Energy Regulatory Commission (the Commission) an application for determination of exempt wholesale generator status pursuant to part 365 of the Commission's regulations.

Applicant states that it is a Delaware limited liability company engaged directly and exclusively in the business of owning and operating an approximately 40 MW wind-powered generation facility located in LaMoure County, North Dakota. Electric energy produced by the facility will be sold at wholesale.

Comment Date: February 12, 2003.

2. FPL Energy South Dakota Wind, LLC

[Docket No. EG03-38-000]

Take notice that on January 17, 2003, FPL Energy South Dakota Wind, LLC (the Applicant), with its principal office at 700 Universe Blvd., Juno Beach, Florida 33408, filed with the Federal Energy Regulatory Commission (Commission) an application for determination of exempt wholesale generator status pursuant to part 365 of the Commission's regulations.

Applicant states that it is a Delaware limited liability company engaged directly and exclusively in the business of owning and operating an approximately 40 MW wind-powered generation facility located in Hyde County, South Dakota. Electric energy produced by the facility will be sold at wholesale.

Comment Date: February 12, 2003.

3. Arizona Public Service Company

[Docket No. EL03-43-000]

Take notice that on January 16, 2003, Arizona Public Service Corporation (APS) filed with the Federal Energy Regulatory Commission (Commission) a petition for declaratory order requesting the Commission's confirmation that the executed Interconnection and Operating Agreement between APS and Reliant Energy Desert Basin, LLC (Reliant), filed as part of the Settlement Agreement approved in Docket No. ER01-1519-000, provides that Reliant will negotiate the terms and conditions of the transfer to APS of the Desert Basin Switchyard constructed by Reliant to enable the interconnection of its Desert Basin generation facility to APS's transmission system, and thereafter consummate such transfer.

Comment Date: February 14, 2003.

4. California Independent System Operator Corporation, Avista Corporation, Bonneville Power Administration, Idaho Power Company, Montana Power Company, Nevada Power Company, PacifiCorp, Portland General Electric Company, Puget Sound Energy, Inc., Sierra Pacific Power Company, Arizona Public Service Company, El Paso Electric Company, Public Service Company of New Mexico, Tucson Electric Power Company

[Docket Nos. ER02-1656-000, RT01-35-000, RT02-1-000 and EL02-9-000]

Take notice that on January 8, 2003, the California Independent System Operator Corporation (California ISO), the RTO West Filing Utilities (Avista Corporation, Bonneville Power Administration, Idaho Power Company, NorthWestern Energy (formerly Montana Power Company), Nevada Power Company, PacifiCorp, Portland General Electric Company, Puget Sound Energy, Inc. and Sierra Pacific Power Company) and the WestConnect Applicants (Arizona Public Service Company, El Paso Electric Company, Public Service Company of New Mexico and Tucson Electric Power Company) jointly filed a report concerning activities of the Seams Steering Group—Western Interconnection.

The parties prepared a joint filing for administrative convenience only. California ISO is submitting this filing solely in Docket No. ER02-1656-000, RTO West Filing Utilities are submitting this filing solely in Docket No. RT01-35-000, and WestConnect Applicants are submitting this filing solely in Docket Nos. RT02-1-000 and EL02-9-000.

5. Duke Energy Glynn, LLC Georgia Power Company

[Docket No. ER03-390-000]

Take notice that on January 16, 2003, Duke Energy Glynn, LLC (Duke) and Southern Company Services, Inc., as agent for Georgia Power Company (collectively SCS) submitted on January 9, 2003, a Notice of Cancellation. A letter terminating the Interconnection Agreement was omitted. There are no other changes to the filing and the requested effective date remains June 1, 2002.

Comment Date: February 6, 2003.

6. Progress Energy Service Company, on behalf of Progress Energy Carolinas, Inc.

[Docket No. ER03-414-000]

Take notice that on January 15, 2003, Progress Energy Service Company on behalf of Progress Energy Carolinas, Inc., (Progress Carolinas) tendered for filing an executed Facility Interconnection and Operating Agreement (Interconnection Agreement) between Progress Carolinas and Cogentrix of North Carolina, Inc., (Cogentrix). The Interconnection Agreement provides for the interconnection of Cogentrix's generating facility near Roxboro, NC with Progress Carolinas' transmission system.

Progress Carolinas is requesting an effective date of December 16, 2002 for this Interconnection Agreement. Progress Carolinas also states that a copy of the filing was served upon the North Carolina Utilities Commission and the South Carolina Public Service Commission.

Comment Date: February 5, 2003.

6. Progress Energy Service Company on behalf of Progress Energy Carolinas, Inc.

[Docket No. ER03-415-000]

Take notice that on January 15, 2003, Progress Energy Service Company on behalf of Progress Energy Carolinas, Inc., (Progress Carolinas) tendered for filing an executed Facility Interconnection and Operating Agreement (Interconnection Agreement) between Progress Carolinas and Cogentrix of North Carolina, Inc.(Cogentrix). The Interconnection Agreement provides for the interconnection of Cogentrix's generating facility near Southport, NC with Progress Carolinas' transmission system.

Progress Carolinas is requesting an effective date of December 16, 2002 for this Interconnection Agreement. Progress Carolinas also states that a copy of the filing was served upon the North Carolina Utilities Commission and the South Carolina Public Service Commission.

Comment Date: February 5, 2003.

7. Commonwealth Edison Company

[Docket No. ER03-417-000]

Take notice that on January 15, 2003, Commonwealth Edison Company (ComEd) tendered a Notice of Cancellation of Original Service Agreement Nos. 621, 622, 623, 624, 625, 626, 627, 628, 629, 630, 631, and 632 under ComEd's FERC Electric Tariff, Second Revised Volume No. 5. The service agreements were between ComEd and NRG Power Marketing Inc. (NRG) for transmission service related to the Bourbonnais Energy Center.

ComEd requested waiver to permit an cancellation effective date of January 16, 2003 for all the service agreements.

Comment Date: February 5, 2003.

8. Wisconsin Electric Power Company

[Docket No. ER03-420-000]

Take notice that on January 16, 2002, Wisconsin Electric Power Company (Wisconsin Electric ) tendered for filing the inputs to the formula rates in Exhibit No.4 of two Generation-Transmission Must Run Agreements with American Transmission Company, LLC (ATLLLC). The inputs are reflected in an updated Exhibit No. 4.4 for Wisconsin Electric's Oak Creek Power Plant and the Presque Isle and Upper Peninsula of Michigan Hydroelectric Plants. By the terms of the Must Run Agreements, the inputs to the formula rate tendered for filing took effect on January 1, 2003. As such, Wisconsin Electric requests that the updates to Exhibit Nos. 4.4 of the Must Run Agreements be made effective on January 1, 2003. An update of Exhibit 2 for Presque Isle Power Plant to provide missing information is also included.

Wisconsin Electric states that copies of this filing have been provided to ATCLLC.

Comment Date: February 6, 2003.

9. Midwest Independent Transmission System Operator, Inc.

[Docket No. ER03-422-000]

Take notice that on January 16, 2003, the Midwest Independent Transmission System Operator, Inc. (Midwest ISO) tendered for filing proposed revisions in order to clarify certain language in Section B Subsection 2 of Schedule 10 of the Midwest ISO Open Access Transmission Tariff, FERC Electric Tariff, Second Revised Volume No. 1. Applicant requests an effective date of January 17, 2003.

The Midwest ISO has requested waiver of the requirements set forth in 18 CFR 385.2010. The Midwest ISO has electronically served a copy of this filing, with attachments, upon all Midwest ISO Members, Member representatives of Transmission Owners and Non-Transmission Owners, the Midwest ISO Advisory Committee participants, Policy Subcommittee participants, as well as all state commissions within the region. In addition, the filing has been electronically posted on the Midwest ISO's Web site at www.midwestiso.org under the heading “Filings to FERC” for other interested parties in this matter.

Comment Date: February 6, 2003.

10. Southern California Edison Company

[Docket No. ER03-424-000]

Take notice that on January 17, 2003, Southern California Edison Company (SCE), tendered for filing a Notice of Cancellation of FERC Electric Tariff, Original Volume No. 5 Service Agreement No. 15. SCE requests that the Notice of Cancellation become effective January 1, 2003.

SCE states that notice of the proposed cancellation has been served upon the Public Utilities Commission of the State of California and Mountainview Power Company.

Comment Date: February 7, 2003.

11. Progress Energy Service Company on behalf of Progress Energy Florida

[Docket No. ER03-425-000]

Take notice that on January 17, 2003,Progress Energy Service Company on behalf of Progress Energy Florida (Progress Florida) tendered for filing an executed Shady Hills Facility Parallel Operation Agreement between Progress Florida and Florida Power & Light Company. Progress Florida is requesting an effective date of December 18, 2002 for this Rate Schedule.

Progress Florida states that a copy of the filing was served upon the Florida Public Service Commission and the North Carolina Utilities Commission.

Comment Date: February 7, 2003.

12. Mesquite Power, LLC

[Docket No. ER03-427-000]

Take notice that on January 17, 2003, Mesquite Power, LLC (Mesquite) tendered for filing pursuant to Rule 205, 18 CFR 385.205, a petition for waivers and blanket approvals under various regulations of the Commission and for an order accepting its FERC Electric Tariff No. 1.

Mesquite intends to sell electric power and ancillary services at wholesale rates, terms, and conditions to be mutually agreed to with the purchasing party. The Mesquite tariff provides for the sale of electric energy, capacity and ancillary services at agreed prices.

Comment Date: February 7, 2003.

13. ConocoPhillips Company

[Docket No. ER03-428-000]

Take notice that on January 17, 2003, ConocoPhillips Company (ConocoPhillips) tendered for filing a Notice of Succession pursuant to Section 35.16 of the Commission's Regulations. As a result of a name change, ConocoPhillips is succeeding by merger to the tariffs and related service agreements of Conoco Inc., effective December 31, 2002.

Comment Date: February 7, 2003.

14. Sierra Pacific Power Company

[Docket No. ER03-429-000]

Take notice that on January 17, 2003, Sierra Pacific Power Company (Sierra Pacific), submitted for filing a Power Purchase Agreement (PPA) between Sierra Pacific and Nevada Power Company, pursuant to Section 205” of the Federal Power Act, 16 U.S.C. 824d” and Section 35.12 of the Commission's rules and regulations, 18 CFR 35.12. Sierra Pacific Power requests an effective date of March 1, 2003 for the PPA.

Comment Date: February 7, 2003.

15. Nevada Power Company

[Docket No. ER03-430-000]

Take notice that on January 17, 2003, Nevada Power Company (Nevada Power), submitted for filing five Power Purchase Agreements (PPAs) between Nevada Power and Sierra Pacific Power Company, pursuant to Section 205” of the Federal Power Act, 16 U.S.C.824d”, and Section 35.12 the Commission's rules and regulations, 18 CFR 35.12. Nevada Power requests an effective date of March 1, 2003 for the PPAs.

Comment Date: February 7, 2003.

16. Dynegy, Inc.

[Docket No. ES03-20-000]

Take notice that on January 13, 2003, Dynegy, Inc. submitted an application requesting a blanket authorization under section 204 of the Federal Power Act and part 34 of the Commission's regulations.

Comment Date: February 3, 2003.

Standard Paragraph

Any person desiring to intervene or to protest this filing should file with the Federal Energy Regulatory Commission, 888 First Street, NE., Washington, DC 20426, in accordance with Rules 211 and 214 of the Commission's Rules of Practice and Procedure (18 CFR 385.211 and 385.214). Protests will be considered by the Commission in determining the appropriate action to be taken, but will not serve to make protestants parties to the proceeding. Any person wishing to become a party must file a motion to intervene. All such motions or protests should be filed on or before the comment date, and, to the extent applicable, must be served on the applicant and on any other person designated on the official service list. This filing is available for review at the Commission or may be viewed on the Commission's Web site at http://www.ferc.gov , using the “FERRIS” link. Enter the docket number excluding the last three digits in the docket number filed to access the document. For assistance, contact FERC Online Support at FERCOnlineSupport@ferc.gov or toll-free at (866)208-3676, or for TTY, contact (202)502-8659. Protests and interventions may be filed electronically via the Internet in lieu of paper; see 18 CFR 385.2001(a)(1)(iii) and the instructions on the Commission's Web site under the “e-Filing” link. The Commission strongly encourages electronic filings.

Magalie R. Salas,
Secretary.

[FR Doc. 03-1925 Filed 1-27-03; 8:45 am]

BILLING CODE 6717-01-P